DEPARTMENT OF THE INTERIOR

National Park Service

[NPS-WASO-NAGPRA-NPS0027257; PPWOCRADN0-PCU00RP14.R50000]

Notice of Inventory Completion: Tennessee Valley Authority, Knoxville, TN; Correction

AGENCY: National Park Service, Interior.

ACTION: Notice; correction.

SUMMARY: The Tennessee Valley Authority (TVA) has corrected an inventory of human remains and associated funerary objects published in a Notice of Inventory Completion in the Federal Register on August 22, 2017. This notice corrects the minimum number of individuals. Lineal descendants or representatives of any Indian Tribe or Native Hawaiian organization not identified in this notice that wish to request transfer of control of these human remains should submit a written request to the TVA. If no additional requestors come forward, transfer of control of the human remains to the Indian Tribes stated in this notice may proceed.

DATES: Lineal descendants or representatives of any Indian Tribe or Native Hawaiian organization not identified in this notice that wish to request transfer of control of these human remains should submit a written request with information in support of the request to TVA at the address in this notice by April 1, 2019.

ADDRESSES: Dr. Thomas O. Maher, TVA, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the correction of an inventory of human remains under the control of the Tennessee Valley Authority, Knoxville, TN. The human remains were removed from site 1MA10 in Madison County, AL.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the minimum number of individuals in a Notice of Inventory Completion in the Federal Register (82 FR 39909-39911, August 22, 2017). Additional human remains from this site were discovered during improvement of the curation of the non-NAGPRA TVA archeological collection. Transfer of control of the items in this correction notice has not occurred.

Correction

In the Federal Register (82 FR 39910, August 22, 2017), column 1, paragraph 2, sentence 1, under the heading “History and Description of the Remains,” is corrected by substituting the following sentence:

In March of 1934, human remains representing, at minimum, 47 individuals were removed from site 1LI36, in Lawrence County, AL, by AMNH.

In the Federal Register (82 FR 39910, August 22, 2017), column 1, paragraph 3, sentence 1, under the heading “History and Description of the Remains,” is corrected by substituting the following sentence:

From January 1939 to April 1940, human remains representing, at minimum, 262 individuals were removed from the Whitesburg Bridge site (1MA10) in Madison County, AL.

In the Federal Register (82 FR 39910, August 22, 2017), column 2, paragraph 2, sentence 2, under the heading “Determinations Made by the Tennessee Valley Authority,” is corrected by substituting the following sentence:

Pursuant to 25 U.S.C. 3001(9), the human remains described in this notice represent the physical remains of 499 individuals of Native American ancestry.

Additional Requestors and Disposition

Lineal descendants or representatives of any Indian Tribe or Native Hawaiian organization not identified in this notice that wish to request transfer of control of these human remains should submit a written request with information in support of the request to Dr. Thomas O. Maher, TVA, 400 West Summit Hill Drive, WT11C, Knoxville, TN 37902-1401, telephone (865) 632-7458, email tomaher@tva.gov, by April 1, 2019. After that date, if no additional requestors have come forward, transfer of control of the human remains to the Cherokee Nation; Eastern Band of Cherokee Indians; and the United Keetoowah Band of Cherokee Indians in Oklahoma may proceed.

The Tennessee Valley Authority is responsible for notifying the Absentee-Shawnee Tribe of Indians of Oklahoma; Alabama-Coushatta Tribe of Texas (previously listed as the Alabama-Coushatta Tribes of Texas); Cherokee Nation; Coushatta Tribe of Louisiana; Eastern Band of Cherokee Indians; Mississippi Band of Choctaw Indians; Poarch Band of Creeks (previously listed as the Poarch Band of Creek Indians of Alabama); The Chickasaw Nation; The Choctaw Nation of Oklahoma; The Muscogee (Creek) Nation; The Seminole Nation of Oklahoma; and the United Keetoowah Band of Cherokee Indians in Oklahoma that this notice has been published.

Dated: February 1, 2019.
Melanie O'Brien,
Manager, National NAGPRA Program.

[FR Doc. 2019-03589 Filed 2-28-19; 8:45 am]

BILLING CODE 4312-52-P